DEPARTMENT OF COMMERCE

National Oceanic and Atmospheric Administration

[Docket No. 030502110-3110-01; I.D. 031103B]

RIN 0648-ZB42

Financial Assistance for Environmental Education Projects in the Monterey Bay (CA) Watershed

AGENCY: National Marine Fisheries Service (NMFS), National Oceanic and Atmospheric Administration (NOAA), Department of Commerce.

ACTION: Notice of availability of funds.

SUMMARY: The purpose of this notice is to invite the public to submit proposals for available funding to implement environmental education projects in the following two areas of interest: “Meaningful” Outdoor Experiences for Students in the Monterey Bay Watershed and Professional Development in the Area of Environmental Education for Teachers in the Monterey Bay Watershed. Potential recipients may submit separate proposals for each area. Funds are available to K-through-12 public and independent schools and school systems, institutions of higher education, community-based and nonprofit organizations, state or local government agencies, interstate agencies, and Indian tribal governments. This notice describes the conditions under which project proposals will be accepted and criteria under which proposals will be evaluated for funding consideration. Depending upon the level of Federal involvement in individual projects, selected recipients will enter into either a cooperative agreement or a grant.

DATES: Applications must be received by 5 p.m. eastern daylight savings time on June 12, 2003. Applications received after that time will not be considered for funding. Applications will not be accepted electronically nor by facsimile machine submission.

ADDRESSES: You can obtain an application package from, and send completed proposals to: Seaberry J. Nachbar, NOAA Chesapeake Bay Office, 410 Severn Avenue, Suite 107A, Annapolis, MD 21403. You can also obtain the application package from the NOAA Chesapeake Bay Office Education Home Page http://noaa.chesapeakebay.net/education.htm.

FOR FURTHER INFORMATION CONTACT: Seaberry J. Nachbar, Education Coordinator, NOAA Chesapeake Bay Office, telephone: (410) 267-5664, or e-mail: seaberry.nachbar@noaa.gov.

SUPPLEMENTARY INFORMATION:

I. Introduction

A. Authority

The Fish and Wildlife Coordination Act, as amended, at 16 USC 661, authorizes the Secretary of Commerce to provide assistance to, and cooperate with, Federal, State, and public or private agencies and organizations in the development, protection, rearing, and stocking of all species of wildlife, resources thereof, and their habitat, in controlling losses of the same from disease or other causes, and in minimizing damages from overabundant species. Under 15 U.S.C. 1540, the Secretary of Commerce, acting through the Under Secretary of Commerce for Oceans and Atmosphere, is authorized to enter into cooperative agreements and other financial agreements with any nonprofit organization to aid and promote scientific and educational activities to foster public understanding of the National Oceanic and Atmospheric Administration or its programs.

B. Catalog of Federal Domestic Assistance (CFDA)

The projects to be funded are in support of the Chesapeake Bay Studies (CFDA 11.457), under the Chesapeake Bay Watershed Education and Training Program.

C. Program Description

As a Federal agency that is committed to the stewardship of our Nation's coastal and marine resources, NOAA can and should play a major role in creating an environmentally literate and informed citizenry. The NOAA Bay Watershed Education and Training (B-WET) Program was established in 2002 to improve the understanding of environmental stewardship of students and teachers. The B-WET Program has an opportunity to create a population that is knowledgeable about the environment by supporting organizations that use the environment as the context for learning. Using the environment, a bay, stream, or the surrounding landscape, provides the opportunity to teach students about their connection to the greater environment. This has been shown to increase a student's academic achievement performance, enthusiasm and engagement for learning, and encourages greater pride and ownership in the environment. The environment can provide a platform upon which educators can create a curriculum that interests learners and revitalizes teachers. Environmentally educated individuals can become effective future workers, problem solvers, and thoughtful community leaders and participants.

II. Areas of Interest

Proposals should address one of the two areas of interest: (A) “Meaningful” Outdoor Experiences for Students; or (B) Professional Development in the Area of Environmental Education for Teachers. Potential recipients may submit separate proposals for each area.

A. “Meaningful” Outdoor Experiences

The B-WET Program seeks proposals for projects that provide opportunities for students (K through 12) in the Monterey Bay (CA) watershed to participate in a “meaningful” outdoor experience. The environment provides an excellent opportunity for education. In many cases, tidal and non-tidal waters and the surrounding landscape can provide “hands-on” laboratories where students can see, touch, and learn about the environment. In other cases, the environment can be brought alive to the classroom through a strong complement of outdoor and classroom experiences. The environment can provide a genuine, locally relevant source of knowledge that can be used to help advance student learning skills and problem-solving abilities across the entire school curriculum. The B-WET Program is strongly committed to expanding the knowledge and participation of a diverse student population in marine and environmental education. This population may include, for example, disabled or minority students, or students who are from rural communities in the Monterey Bay (CA) watershed.

Proposals submitted under this area should address the following elements and types of activities:

1. “Meaningful” outdoor experiences should make a direct connection to the marine or estuarine environment: Experiences should demonstrate to students that local actions can impact the greater water environment(i.e., Monterey Bay). Experiences do not have to be water-based activities as long as there is an intentional connection made to water quality, the watershed, and the larger ecological system, outdoor experiences may include terrestrial activities.

2. “Meaningful” outdoor experiences are hands-on and investigative or project-oriented: Experiences should include activities where questions, problems, and issues are investigated through data collection, observation, and hands-on activities. Experiences should stimulate observation, motivate critical thinking, develop problem-solving skills, and instill confidence in students. Experiences should not be limited to tours, museum visits, simulations, demonstrations, or “nature” walks but should encourage the student to assist, share, communicate, and connect directly with the outdoors. Experiences can include the following kinds of activities: (1) Investigative or experimental design activities where students or groups of students use equipment, take measurements, and make observations for the purpose of making interpretations and reaching conclusions; (2) Project-oriented experiences, such as restoration, monitoring, and protection projects, that are problem solving in nature and involve many investigative skills; and (3) Social, economic, historical, and archaeological questions, problems, and issues that are directly related to California peoples and cultures. These experiences should involve fieldwork, data collection, and analysis.

3. “Meaningful” outdoor experiences are part of a sustained activity: Experiences should consist of more than just the outdoor experience. Though an outdoor experience itself may occur as one specific event, occurring in 1 day, the total duration leading up to and following the experience should involve a significant investment of instructional time. An experience should consist of three general parts, not necessarily occurring in this order- a preparation phase; an outdoor phase; and an analysis, reporting phase. Projects should provide teachers with the support, materials, resources, and information needed to conduct these three parts. The preparation phase should focus on a question, problem, or issue and involve students in discussions about it. The action phase should include one or more outdoor experiences sufficient to conduct the project, make the observations, or collect the data required. The reflection phase should refocus on the question, problem, or issue; analyze the conclusions reached; evaluate the results; and assess the activity and the learning.

4. “Meaningful” outdoor experiences are an integral part of the instructional program: Experiences must be clearly part of what is occurring concurrently in the classroom. The outdoor experiences should be part of the division curriculum and be aligned with the California academic learning standards. Experiences should make appropriate connections among subject areas and reflect an integrated approach to learning. Experiences should occur where and when they fit into the instructional sequence.

5. Projects demonstrate partnerships: Project proposals should include partners involving any of the eligible applicants. Partnerships refers to the forming of a collaborative working relationship between two or more organizations. The B-WET Program strongly encourages applicants to partner with schools and/or school systems. All partners should be actively involved in the project, not just supply equipment or curricula.

B. Professional Development in the Area of Environmental Education for Teachers

The B-WET Program seeks proposals for projects that provide K-through-12 teachers in the Monterey Bay (CA) watershed opportunities for professional development in the area of environmental education. As the purveyors of education, teachers can ultimately make meaningful environmental education experiences for students by weaving together classroom and field activities within the context of their curriculum and of current critical issues that impact the environment. Systematic, long-term professional development opportunities will reinforce a teacher's ability to teach, inspire, and lead young people toward thoughtful stewardship of our natural resources. The B-WET Program is strongly committed to expanding the knowledge and participation of a diverse teacher population in marine and environmental education. This population may include, for example, disabled or minority teachers, or teachers who are from rural communities in the Monterey Bay (CA) watershed.

Proposals submitted under this area should address the following elements and types of activities:

1. Professional development courses follow the teaching of a “meaningful” outdoor experience and encourage the teacher to conduct an experience in his/her classroom: Professional development courses for the teacher should ultimately benefit the student. Projects should be structured so that the teacher learns how to conduct a “meaningful” outdoor experience in his/her classroom (see Section II (A) for details on “meaningful” outdoor experiences). Projects should provide teachers with the background information, materials and resources needed to conduct an experience. Proposals may include implementation grants for the teachers to carry out a “meaningful” outdoor experience in their classrooms.

2. Projects involve external sharing and communication:Projects should promote peer-to-peer sharing and emphasize the need for external sharing and communication. Projects should include a mechanism that encourages teachers to share their experiences with other teachers and with the environmental education community.

3. Projects demonstrate partnerships: Project proposals should include partners involving any of the eligible applicants. Partnerships refers to the forming of a collaborative working relationship between two or more organizations. The B-WET Program strongly encourages applicants to partner with schools and/or school systems. All partners should be actively involved in the project, not just supply equipment or curricula.

III. Funding

A. Funding Availability

This solicitation announces that approximately $250,000 will be made available for environmental education projects in the Monterey Bay (CA) watershed in FY 2003. About $125,000 will be for proposals that provide opportunities for students (K through 12) in the Monterey Bay (CA) watershed to participate in a “Meaningful” Outdoor Experience. About $125,000 will be for proposals that provide opportunities for Professional Development in the area of Environmental Education for Teachers in the Monterey Bay (CA) watershed.

There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so solely at their own risk of not being reimbursed by the government. Notwithstanding verbal or written assurance that may have been received, there is no obligation on the part of NOAA to cover pre-award costs unless approved by the Grants Officer as part of the terms when the award is made.

B. Award Limits

The B-WET Program anticipates that typical project awards for “Meaningful” Outdoor Experiences for Students and Professional Development in the Area of Environmental Education for Teachers will range from $10,000 to $50,000. Proposals will be considered for funds greater than the specified ranges.

C. Funding Instrument

Whether the funding instrument is a grant or a cooperative agreement will be determined by the whether there is substantial NOAA involvement in the project. A cooperative agreement will be used if NOAA shares responsibility for management, control, direction, or performance of the project with the recipient. Specific terms regarding substantial involvement will be contained in special award conditions.

D. Cost-sharing Requirements

The NOAA strongly encourages applicants applying for either area of interest to share as much of the costs of the award as possible. Funds from other Federal awards may not be considered matching funds. The nature of the contribution (cash versus in-kind) and the amount of matching funds will be taken into consideration in the final selection process. Priority selection will be given to proposals that propose cash rather than in-kind contributions.

IV. Instructions for Application

A. Eligible Applicants

Eligible applicants for both areas of interest include state, local and Indian tribal governments, institutions of higher education, other non-profit organizations and commercial organizations. These may include K-through-12 public and independent schools and school systems and community-based organizations.

The Department of Commerce/ National Oceanic and Atmospheric Administration (DOC/NOAA) is strongly committed to broadening the participation of historically black colleges and universities, Hispanic serving institutions, tribal colleges and universities, and institutions that work in undeserved areas. The NOAA encourages proposals involving any of the above institutions.

B. Project Award Period

The B-WET Program will make awards for a period of one year. Projects should begin no later than October 1, 2003.

C. Format and Requirements

Proposals must be complete and must follow the format described in this notice. Potential recipients may submit separate proposals for each area of interest (i.e., “Meaningful” Outdoor Experiences for Students or Professional Development in the Area of Environmental Education for Teachers). Applicants should not assume prior knowledge on the part of the NOAA as to the relative merits of the project described in the application.

1. Proposal format: Applicants are required to submit one signed original and two copies of the full proposal (submission of five additional hard copies is encouraged to expedite the review process, but it is not required). Proposal format must be in at least a 10-point font, double-spaced, unbound, and one-sided. Brevity will assist reviewers and program staff in dealing effectively with proposals. Therefore, the Project Description may not exceed 15 pages. Tables and visual materials, including charts, graphs, maps, photographs, and other pictorial presentations are not included in the 15-page limitation. Appendices may be included but must not exceed a total of 10-pages in length. Appendices may include information such as curriculum, resumes, and/or letters of endorsement. Additional informational material will be disregarded. Proposals must include the following information:

a. Project summary (1-page limit): It is recommended that each proposal contain a summary of no more than one page that provides the following:

(1) Organization title.

(2) Address, telephone number, and email address of applicant.

(3) Area of interest for which you are applying (i.e., “Meaningful” Outdoor Experiences for Students; Professional Development in the Area of Environmental Education for Teachers).

(4) Project title.

(5) Project duration (1 year project period beginning to end dates, starting on the first of the month and ending on the last day of the month).

(6) Principal Investigator(s) (PI).

(7) Project objectives.

(8) Summary of work to be performed (include number of teachers and/or students that will be involved in your project).

(9) Total Federal funds requested.

(10) Cost-sharing to be provided from non-Federal sources, if any. Specify whether contributions are cash or in-kind.

(11) Total project cost.

b. Project description (15-page limit): Describe precisely what your project will achieve why, how, who, and where.(1) Why: Explain the purpose of your project. This should include a clear statement of the work to be undertaken and include the following:

-Explain which area of interest your project addresses (i.e., (1)“Meaningful” Outdoor Experiences for Students;(2) Professional Development in the Area of Environmental Education for Teachers).

-Specifically describe how your project addresses each of the elements and types of activities relating to the project's particular area of interest (i.e., Section II.A for the “Meaningful” Outdoor Experience for Students area or Section II.B for the Professional Development in the area of Environmental Education for Teachers area).

(2) How: Outline a plan of action pertaining to the scope and detail of how the proposed work will be accomplished. Explain your strategy, objectives, activities, delivery methods, and accomplishments to establish for reviewers that you have realistic goals and objectives and that you will use effective methods to achieve them. When accomplishments cannot be quantified, list the activities in chronological order to show the schedule of accomplishments and target completion dates.

-Project Objectives: Objectives should be simple and understandable; as specific and quantitative as possible; clear as to the “what and when,” but should avoid the “how and why.” Projects should be accomplishment oriented and identify specific performance measures.

(3) Who: Explain who will conduct the project. Include the following:

-List each organization, cooperator, or other key individuals who will work on the project, along with a short description of the nature of their effort or contribution.

-Identify the target audience and demonstrate an understanding of the needs of that audience (include specifically how many students and/or teachers are involved in your project).

(4) Where: Give a precise location of the project and area(s) to be served.

c. Need for government financial assistance: Demonstrate the need for assistance. Explain why other funding sources cannot fund all the proposed work.

d. Benefits or results expected: Identify and document the results or benefits to be derived from the proposed activities.

e. Project Evaluation: Explain how you will ensure that you are meeting the goals and objectives of your project. Evaluation plans may be quantitative and/or qualitative and may include, for example, evaluation tools, observation, or outside consultation.

f.Total project costs: Total project costs are the amount of funds required to accomplish what is proposed in the Project Description and include contributions and donations.

Explain the calculations and provide a narrative to support specific items or activities, such as personnel/salaries, fringe benefits, travel, equipment, supplies, contract costs, and indirect costs. The budget detail and narrative submitted with the application should match the dollar amounts on all required forms. Additional cost detail may be required prior to a final analysis of overall cost allowability, allocability, and reasonableness. Please Note the following funding restrictions:

-The budget may include an amount for indirect costs if the applicant has an established indirect cost rate with the Federal Government, see Administrative Requirements, Section VI, B.

-Funds for salaries and fringe benefits may be requested only for those personnel who are directly involved in implementing the proposed project and whose salaries and fringe benefits are directly related to specific products or outcomes of the proposed project. NOAA strongly encourages applicants to request reasonable amounts of funding for salaries and fringe benefits to ensure that your proposal is competitive.

g. Letters of support from partners: Letters of support should be included for partners that are making a significant contribution to the project, if applicable.

Federal forms: Applicants may obtain required Federal forms from the NOAA Chesapeake Bay Office Web site (see ADDRESSES) or from the NOAA Grants Web site: http://www.rdc.noaa.gov/grants/index.html.

1. Cover sheet: All applicants must use Office of Management and Budget (OMB) Standard Form 424 (revised 7/97) as the cover sheet for each project.

2. Budget form: All applicants must use a Standard Budget

Form (SF-424A) required for all federal grants.

3. Form CD-511: All applicants must submit a CD-511,

“Certification Regarding Debarment, Suspension and Other Responsibility Matters; Drug-Free Workplace Requirements and Lobbying”.

4. SF-424B: All applicants must submit a SF-424B, “Assurances of Non-Construction Programs”.

5. CD-346 “Applicant for Funding Assistance”: Required for the following individuals- Sole Proprietorship, Partnerships, Corporations, Joint Venture, Non-profit Organizations.

D. Evaluation Criteria

1. Project Design/Conceptual Approach: Projects will be evaluated on your conceptual approach and how you have integrated this into the project design. In particular, the extent to which you have addressed the project elements and activities under Sections II.A, 1 4 and/or II.B, 1 2, and have complied with the instructions in IV.C.1.b. Project description, c. Need for government financial assistance, and d. Benefits or results expected will be evaluated under this criterion. (50 points)

2. Project evaluation: Projects will be evaluated based on your explanation of how you will ensure that you are meeting the goals and objectives of your project, as required in Section IV.C.1.e, so that results may be reported in performance reports. (15 points)

3. Projects demonstrate partnerships: Project proposals will be evaluated based on the degree to which they include partners involving any of the eligible applicants, as provided in Sections II.A.5 or II.B.3, and whether letters of support from partners have been included, as required in Section IV.C.1.g. Partnerships refers to the forming of a collaborative working relationship between two or more organizations. The B-WET Program strongly encourages applicants to partner with schools and/or school systems. All partners should be actively involved in the project, not just supply equipment or curricula. (15 points)

4. Justification and allocation of the proposed budget: Proposals will be evaluated on the reasonableness, allowability, and allocability of the proposed budget, as set forth in Section IV.C.1.f. (20 points)

V. Selection Procedures

A. Initial Evaluation of the Applications

NOAA will review all applications to assure that they meet all the requirements of this announcement, including eligibility and relevance to the Bay Watershed Education and Training (B-WET) Program.

B. Technical Review

Applications meeting the requirements of this solicitation will undergo an external technical review. This review will normally involve individuals in the field of environmental education from both NOAA and non-NOAA organizations. Proposals will be scored based on the evaluation criteria as defined in Section IV.D. Reviewers will be asked to review independently and to provide a score and comments on each proposal. No consensus advice will be given by the technical reviewers.

C. Funding Decision

Scores for each proposal will then be averaged and the proposals will be ranked numerically for funding based upon the technical review scores. After the proposals have been ranked, the Chief of the NOAA Chesapeake Bay Office, in consultation with the Superintendent of the Monterey Bay National Marine Sanctuaries and Program staff, will determine which projects will be recommended for funding.

Numerical ranking will be the primary consideration for deciding which of the proposals will be selected for funding. However, duplication with other projects, geographic diversity, program goals, and the cost share contribution may also be taken into consideration in making the final selections. Priority selection will be given to proposals that contribute cash rather than in-kind funding to their projects. Accordingly, numerical ranking is not the sole factor in deciding which proposals will be selected for funding. A written justification will be prepared for any recommendations for funding that fall outside the ranking order. The exact amount of funds awarded to each project will be determined in pre-award negotiations among the applicant, the Grants Office, and the Program staff. Potential grantees should not initiate projects in expectation of Federal funding until an award document signed by an authorized NOAA official has been received.

Unsuccessful applications will be kept on file in the Program office for a period of at least 12 months, then destroyed.

VI. Administrative Requirements

A. Pre-award Notification Requirements

The Department of Commerce Pre-Award Notification of Requirements for Grants and Cooperative Agreements contained in the Federal Register notice of October 1, 2001 (66 FR 49917), as amended by the Federal Register Notice published October 30, 2002 (67 FR 66109), is applicable to this solicitation.

B. Indirect Cost Rates

Regardless of any approved indirect cost rate applicable to the award, the maximum dollar amount of allocable indirect costs for which the Department of Commerce will reimburse the recipient shall be the lesser of the line item amount for the Federal share of indirect costs contained in the approved budget of the award, or the Federal share of the total allocable indirect costs of the award based on the indirect cost rate approved by an oversight or cognizant Federal agency and current at the time the cost was incurred, provided the rate is approved on or before the award end date. However, the Federal share of the indirect costs may not exceed 25 percent of the total proposed direct costs for this Program. Applicants with indirect costs above 25 percent may use the amount above the 25 percent level as cost sharing. If the applicant does not have a current negotiated rate and plans to seek reimbursement for indirect costs, documentation necessary to establish a rate must be submitted within 90 days of receiving an award.

C. Allowable Costs

Funds awarded cannot necessarily pay for all the costs that the recipient might incur in the course of carrying out the project. Allowable costs are determined by reference to the Office of Management and Budget Circulars A-122, “Cost Principles for Nonprofit Organizations”; A-21, “Cost Principles for Education Institutions”; and A-87, “Cost Principles for State, Local and Indian Tribal Governments.” Generally, costs that are allowable include salaries, equipment, supplies, and training, as long as these are “necessary and reasonable.”

Classification

This action has been determined to be “not significant” for purposes of Executive Order 12866. Applications under this program are subject to Executive Order 12372, “Intergovernmental Review of Federal Programs.”

Under section 553 (a)(2) of the Administrative Procedure Act, prior notice and an opportunity for public comment are not required for this notice concerning grants, benefits, and contracts. Therefore, a regulatory flexibility analysis is not required for the purposes of the Regulatory Flexibility Act.

This notice contains collection-of-information requirements subject to the Paperwork Reduction Act. The use of Standard Forms 424, 424A, 424B, and CD-346 has been approved by OMB under the respective control numbers 0348-0044, 0348-0044, 0348-0040, and 0605-0001.

Notwithstanding any other provision of the law, no person is required to respond to, nor shall any person be subject to a penalty for failure to comply with a collection of information subject to the requirements of the Paperwork Reduction Act unless that collection displays a currently valid OMB control number.

Dated: May 7, 2003.
John Oliver,
Deputy Administrative Assistant for Operations for Fisheries, National Marine Fisheries Service.

[FR Doc. 03-11912 Filed 5-12-03; 8:45 am]

BILLING CODE 3510-22-S